DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 8, 2002.

Interested persons are invited to submit written comments regarding the subject matter of the investigations to the Director, Division of Trade Adjustment Assistance, at the address shown below, not later than August 8, 2002.

The petitions filed in this case are available for inspection at the Office of the Director, Division of Trade Adjustment Assistance, Employment and Training Administration, U.S. Department of Labor, Room C-5311, 200 Constitution Avenue, NW., Washington, DC 20210.

Signed at Washington, DC, this 1st day of July, 2002.
Edward A. Tomchick,
Director, Division of Trade Adjustment Assistance.

APPENDIX
[Petitions instituted on 07/01/2002]
TA-W | Subject firm (petitioners) | Location | Date of petition | Product(s)
41,733 | Lenox China (Comp) | Oxford, NC | 06/24/2002 | China Giftware & China Holloware.
41,734 | Santiam Forest Products (Comp) | Sweet Home, OR | 06/21/2002 | Softwood Lumber.
41,735 | MSC Pinole Point Steel (Wkrs) | Richmond, CA | 06/11/2002 | Steel Coils and Sheet.
41,736 | Therm-O-Disc (Comp) | Muskegon, MI | 06/18/2002 | Various Therm-O-Disc Products.
41,737 | Severn Trent Services (Comp) | Fieldale, VA | 06/19/2002 | Wastewater Contractor.
41,738 | Customer Satisfaction Fir (Wkrs) | Wiles-Barre, PA | 06/07/2002 | Customer Service.
41,739 | Wemco Precision Tool (Comp) | Meadville, PA | 06/14/2002 | Machining Services.
41,740 | Sulzer Pumps (Comp) | Portland, OR | 06/10/2002 | Industrial Pumps.
41,741 | Weyerhauser (Comp) | Woodburn, OR | 06/17/2002 | I-Joist.
41,742 | Komatsu America Corp. (Comp) | Peoria, IL | 06/12/2002 | Outsourcing Machined Parts.
41,743 | Alfa Laval (Tri-Clover) (IAMAW) | Kenosha, WI | 05/13/2002 | Values and Clamps.
41,744 | Angelica Image Apparel (Wkrs) | St. Louis, MO | 06/12/2002 | Uniforms.
41,745 | Angelica Image Apparel (Wkrs) | Collinwood, TN | 05/23/2002 | Healthcare Garments.
41,746 | Kelly Technical Services (Wkrs) | Independence, OH | 04/26/2002 | Flat and Hot Roll Steel.
41,747 | G&T Industrial Sheet (Comp) | Bend, OR | 05/17/2002 | Pipes.
41,748 | IBM (Wkrs) | Research Triang, NC | 05/15/2002 | Technical Assistance.
41,749 | Toro Co. (UAW) | Bloomington, MN | 05/20/2002 | Mowers and Sprayers.
41,750 | D and L Tool (Comp) | Meadville, PA | 06/11/2002 | Molds.
41,751 | Gilbert Mfg. Co. (Comp) | South Hill, VA | 05/28/2002 | Under Cabinet Lighting.
41,752 | Super Steel Schenectady (Wkrs) | Scotia Glenvill, NY | 05/17/2002 | Locomotive Parts.
41,753 | Gerber Technology, Inc. (Wkrs) | Richardson, TX | 06/06/2002 | Cutting Machines.
41,754 | T.C. Timber Habermass (Comp) | Skaneateles, NY | 06/13/2002 | Wooden Toys.
41,755 | Dale Hollow Apparel (Wkrs) | Byrdstown, TN | 06/07/2002 | Shirts and Blouses.
41,756 | H and L Tool (Comp) | Erie, PA | 06/12/2002 | Mold Building and Repair.
41,757 | Curt G. Joa, Inc. (Wkrs) | Boynton Beach, FL | 06/14/2002 | Processing Machinery.
41,758 | Parker Hosiery Co. (Comp) | Old Fort, NC | 06/13/2002 | Socks.
41,759 | United Chair (Comp) | Leeds, AL | 05/15/2002 | Office & General Institution Seating.
41,760 | Industrial Coils (Comp) | Baraboo, WI | 06/12/2002 | Magnetic Windings.
41,761 | Glen Oaks/Marietta Sports (Wkrs) | Dallas, TX | 06/13/2002 | Men's Dress Socks.
41,762 | Valeo Climate Control (Comp) | Decatur, IL | 06/03/2002 | AC Components.
41,763 | Pabst Meat Supply (Comp) | Invergrove Hgts, MN | 05/10/2002 | Meat.
41,764 | Corning Frequency Control (Comp) | Mercersburg, PA | 06/10/2002 | Crystal Blanks and Resonators.
41,765 | Regal Plastics (UAW) | Roseville, MI | 06/18/2002 | Retainer Jack Stowage Cover.
41,766 | Crucible Specialty Metals (Wkrs) | Syracuse, NY | 06/14/2002 | Valve Steel.
41,767 | Intermix Foods (Wkrs) | El Paso, TX | 06/10/2002 | Tortillas, Chilli.
41,768 | Bridal Originals (Comp) | DuQuoin, IL | 06/07/2002 | Formal Dresses.
41,769 | Siemens Demag Delaval (Wkrs) | Trenton, NJ | 05/29/2002 | Steam Turbines.
41,770 | RFS Ecusta (Wkrs) | Pisgah Forest, NC | 05/21/2002 | Cigarette Papers.
41,771 | Standard Container (Comp) | Edgar, WI | 05/15/2002 | Bassinets.
41,772 | Fisher Products Group (Wkrs) | Pittsburgh, PA | 06/17/2002 | PH Meters.
41,773 | Degussa (Wkrs) | Theodore, AL | 06/14/2002 | Polyoxymenthlene.
41,774 | Racine Steel Castings (UAW) | Racine, WI | 06/14/2002 | Automobile Seats.

[FR Doc. 02-19099 Filed 7-26-02; 8:45 am]

BILLING CODE 4510-30-M